DEPARTMENT OF COMMERCE

International Trade Administration

Announcement of Certain Approved 2022 International Trade Administration Trade Missions

AGENCY: International Trade Administration, Department of Commerce.

SUMMARY: The United States Department of Commerce, International Trade Administration (ITA), is announcing four upcoming trade missions that will be recruited, organized, and implemented by ITA. A summary of each mission is found below.

ADDRESSES: Application information and more detailed mission information, including the commercial setting and sector information, can be found at the trade mission website: https://www.trade.gov/trade-missions.

For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington, DC 20230; telephone (202) 482-3773 or email Gemal.Brangman@trade.gov.

SUPPLEMENTARY INFORMATION: These missions are:

• Trade Mission to the UAE in Conjunction with Trade Winds Middle East & North Africa Business Forum—March 2-10, 2022.

• Trade Mission to Central America in Conjunction with Trade Americas—Business Opportunities in Central America Conference—March 27, 2022-April 1, 2022.

• Minority-Business Focused Trade Mission (MBTM) to Italy, Spain, and Portugal—May 15-20, 2022.

• Aerospace Trade Mission to India—June 21-24, 2022.

The Following Conditions for Participation Will Be Used for Each Mission

Applicants must submit a completed and signed mission application and supplemental application materials, including adequate information on their products and/or services, primary market objectives, and goals for participation to allow the Department of Commerce to evaluate their application. If the Department of Commerce receives an incomplete application, the Department may either: Reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least 51% U.S. content by value. In the case of an organization, the applicant must certify that, for each entity to be represented by the organization, the products and/or services the represented firm or service provider seeks to export are either produced in the United States or, if not, marketed under the name of a U.S. firm and have at least 51% U.S. content.

An organization applicant must certify to the above for all of the companies it seeks to represent on the mission.

In addition, each applicant must:

• Certify that the export of products and services that it wishes to market through the mission is in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and organizations (universities, research institutions, or financial services trade associations) providing or promoting U.S. products and services that have an interest in entering or expanding their business in the mission's destination country. The following criteria will be evaluated in selecting participants:

• Suitability of the applicant's (or in the case of an organization, represented firm's or service provider's) products or services to these markets;

• The applicant's (or in the case of an organization, represented firm's or service provider's) potential for business in the markets, including likelihood of exports resulting from the mission; and

• Consistency of the applicant's (or in the case of an organization, represented firm's or service provider's) goals and objectives with the stated scope of the mission.

With a view to maintaining balanced representation, the size and geographical location of applicants may also be considered during the review process. Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Important Note About the Covid-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previous selected applicants with the option to opt-in to the new virtual program. Mission participants are responsible for compliance with all COVID-19-related requirements related to travel to, within, and from trade mission destinations, including vaccinations, and, where appropriate, testing. In addition, mission locations and venues may have additional requirements, such as masking and/or social distancing.

Mission List: (Additional information about each mission can be found at https://www.trade.gov/trade-missions).

Trade Mission to the UAE in Conjunction With Trade Winds Middle East & North Africa Business Forum

Dates: March 2-10, 2022

Summary

The United States Department of Commerce, International Trade Administration (ITA), U.S. and Foreign Commercial Service (USFCS) is organizing a trade mission to the United Arab Emirates that will include the Trade Winds Middle East & North Africa Business Forum in Dubai, UAE, Sunday, March 6-Tuesday, March 8.

All trade mission members will participate in the Trade Winds Middle East & North Africa Business Forum (Sunday, March 6, Monday, March 7 and Tuesday, March 8) in Dubai, which will also be open to U.S. companies only wanting to attend the Forum. Trade mission members may travel first to Algeria, Morocco, Qatar or Israel on March 2 for spins-offs and/or travel on Tuesday, March 8 to Saudi Arabia, Kuwait or Egypt.

The Dubai Trade Winds event will be attended by Senior Commercial Officers and State Department Officers from Gulf and Arab Levant, North Africa and Sub-Saharan Africa markets.

Trade mission participants may participate in their choice of mission stops based on recommendations from the USFCS. Each trade mission stop will include one-on-one business appointments with pre-screened potential buyers, agents, distributors and joint-venture partners, and networking events. Companies that would like to participate in more than 3 mission stops can do so by having additional representatives travel to the various stops.

This mission is open to U.S. companies from a cross section of industries with growth potential in the Middle East and North Africa, including but not limited to: Information & communication technologies, design & construction, energy & environmental technologies, aerospace and defense, healthcare, franchising and consumer goods.

Proposed Timetable

This timetable allows for clients to take part in business matchmaking across the diverse Middle East and North Africa marketplace by offering scheduled business-to-business meetings in the UAE, Egypt, Algeria, Morocco, Saudi Arabia, Kuwait or Qatar. This structure ensures that each post has set days for meetings that allow the clients to explore at least three of their best prospects for business.

Wednesday, March 2 | Arrive in Qatar, Algeria, Morocco, or Israel.
Thursday, March 3 | Select trade mission meetings in Algeria, Morocco, Qatar or Israel and evening networking receptions.
Friday, March 4 | Depart mission stops and arrive in Dubai, UAE.
Saturday, March 5 | Visit World Expo.
Sunday, March 6 | Dubai: Trade Winds Middle East & North Africa Business Forum Market Briefings, consultations with U.S. government trade representatives and networking with U.S. and foreign government and business officials.
Monday, March 7 | Dubai: Trade Winds Middle East & North Africa Business Forum Market Briefings, consultations with U.S. government trade representatives and networking with U.S. and foreign government and business officials.
Tuesday, March 8 | Dubai: Trade Winds Middle East & North Africa Business Forum Market Briefings, Business to Business meetings, consultations with U.S. government trade representatives and networking with U.S. and foreign government and business officials.
Wednesday, March 9 | Depart Dubai and arrive in Saudi Arabia, Kuwait or Egypt.
Thursday, March 10 | Select trade mission meetings in Saudi Arabia, Kuwait or Egypt and evening networking receptions.
Friday, March 11 | Trade Mission Participants Depart.

Website: Please visit our official mission website for more information: https://www.itamatch.com/event/tradewinds22.

Participation Requirements

All parties interested in participating in the trade mission to the UAE (including mission stops with business matchmaking in the UAE, Saudi Arabia, Kuwait, Qatar, Israel, Algeria, Egypt and/or Morocco must complete and submit an application package for consideration by the Department of Commerce. All applicants will be evaluated on their ability to meet certain conditions and best satisfy the selection criteria as outlined below.

A minimum of 40 companies and/or trade associations will be selected to participate in the mission from the applicant pool on a rolling basis. Mission stop participation will be limited as follows:

Business Matchmaking Capacity

The UAE: 30

Egypt: 10

Saudi Arabia: 15

Kuwait: 12

Qatar: 14

Algeria: 5

Morocco: 12

Israel/West Bank: 10

Additional delegates may be accepted based on available space. U.S. companies and/or trade associations already doing business in or seeking business in the UAE, Egypt, Algeria, Morocco, Israel, Saudi Arabia, Kuwait, and Qatar for the first time may apply.

Fees and Expenses

If an applicant is selected to participate in a mission a payment to the Department of Commerce in the amount of the designated participation fee below is required. Upon notification of acceptance to participate, those selected have 5 business days to submit payment or the acceptance may be revoked.

• The fee for companies to only participate in the Business Forum in Dubai from March 6-8, 2022, is $750. The trade mission fees below include participation in the Business Forum in Dubai.

• For one mission stop, the participation fee will be $2,200 for a small or medium-sized enterprise (SME) and $4,200 for large firms.

• For two mission stops, the participation fee will be $3,400 for a small or medium-sized enterprise (SME) and $5,400 for large firms.

• For three mission stops, the participation fee will be $4,600 for a small or medium-sized enterprise (SME) and $6,600 for large firms.

• For four mission stops, the participation fee will be $5,800 for a small or medium-sized enterprise (SME) and $7,800 for large firms.

• An additional representative for both SMEs and large firms at the Forum or mission stops will require a one-time additional fee of $500.

Application

All interested firms and associations may register via the following link: https://www.itamatch.com/event/tradewinds22.

Timeframe for Recruitment and Application

Mission recruitment will be conducted in an open and public manner, including publication in the Federal Register, posting on the U.S. Department of Commerce trade mission calendar and other internet websites, press releases to general and trade media, direct mail, notices by industry trade associations and other multiplier groups, and publicity at industry meetings, symposia, conferences, and trade shows.

Recruitment for the mission will begin September 7 and conclude no later than January 31, 2022. The U.S. Department of Commerce will review applications and make selection decisions on a rolling basis until the maximum number of participants is selected. After January 31, 2022, applications will be considered only if space and scheduling constraints permit.

Contacts

Leandro Solorzano, Director, U.S. Commercial Service Phoenix, AZ, Leandro.Solorzano@trade.gov, Tel: 480-387-6531

Erin Butler, Director, U.S. Commercial Service New Orleans, LA, Erin.Butler@trade.gov, Tel: 504.264.4826

Judy Kornfeld, National Events Manager, U.S. Commercial Service Washington, DC, Judy.kornfeld@trade.gov, Tel: 571-237-9187

International Contacts

Thomas Bruns, Regional Senior Commercial Officer, U.S. Commercial Service Abu Dhabi, Email: Thomas.Bruns@trade.gov

Erick Kish, Principal Senior Commercial Officer, U.S. Commercial Service Abu Dhabi, Email: Erick.Kish@trade.gov

Trade Mission to Central America in Conjunction With the Trade Americas—Business Opportunities in Central America Conference

Dates: March 27-April 1, 2022

Summary

As part of the Biden Administration's Root Causes Strategy, which seeks increase and diversify trade between the United States and Central America, the United States Department of Commerce, International Trade Administration, is organizing a trade mission to Central America that will include the Trade Americas—Business Opportunities in Central America Conference in Guatemala City, Guatemala on March 27-April 1, 2022.

U.S. trade mission delegation participants will arrive in Guatemala City, Guatemala, on or before March 27 to attend the opening reception for the Trade Americas—Business Opportunities in Central America Conference, which is also open to U.S. companies not participating in the trade mission. Trade mission participants will attend the Conference on March 28. Following the morning session of the conference, trade mission participants will participate in one-on-one consultations with U.S. and Foreign Commercial Service (US&FCS) Commercial Officers and/or Department of State Economic/Commercial Officers from the following U.S. Embassies in the region: Costa Rica, El Salvador, Honduras, Guatemala, Belize, and Panama. The following day, March 29, trade mission participants will travel to engage in business-to-business appointments, each of which will be with a pre-screened potential buyer, agent, distributor, or joint-venture partner, in up to two markets in the Central America Region.

The Department of Commerce's Trade Americas—Business Opportunities in Central America Conference will focus on regional and industry-specific sessions, market entry strategies, legal, logistics, and trade financing resources as well as pre-arranged one-on-one consultations with US&FCS Commercial Officers and/or Department of State Economic/Commercial Officers with expertise in commercial markets throughout the region.

The mission is open to U.S. companies from a cross section of industries with growing potential in Central America, but is focused on U.S. companies representing best prospects sectors such as Agriculture, Automotive Parts, Accessories, and Service Equipment, Construction Equipment and Services, Cosmetics, Cybersecurity, Design and Construction, Disposable Medical Supplies, Education and Training, Energy, Franchising, Information and Communications Technology, Medical Equipment, Packaging Equipment & Machinery, Plastics, Safety & Security, Solar Energy Products, Travel and Tourism.

The combination of the Trade Americas—Business Opportunities in Central America Conference and business-to-business matchmaking opportunities in six Central American countries will provide participants with access to substantive information on strategies for entering or expanding their business across the Central America region.

Proposed Timetable

The mission fee will include registration for the Trade Americas—Business Opportunities in Central America Conference, including conference materials and admission to all sessions and networking events with industry and government representatives, country market briefings, and logistics support. It also includes one-on-one appointments with pre-screened potential business partners in up to two markets in Central America.

U.S. trade mission delegation participants will arrive in Guatemala City, Guatemala on or before March 27, to attend the opening reception for the Trade Americas—Business Opportunities in Central America Conference, which is also open to U.S. firms not participating in the trade mission. Trade mission participants will attend the conference on March 28. Following the morning session of the conference, trade mission participants will participate in one-on-one consultations with US&FCS commercial officers and/or Department of State economic/commercial officers from the following U.S. Embassies in the region: Costa Rica, El Salvador, Honduras, Guatemala, Belize, and Panama. The following day, March 29, trade mission participants will engage in business-to-business appointments in Guatemala City, or travel to another selected/approved market for business-to-business appointments. Business-to-business appointments will be with prescreened potential buyers, agents, distributors, or potential joint venture partners in up to two markets in Central America.

* Note: The final schedule and potential site visits will depend on the availability of host government and business officials, specific goals of mission participants, and ground transportation.

March 26, 2022 | Travel Day/Arrival in Guatemala City. Optional Local Tour.
March 27, 2022 | Guatemala City. Afternoon: Registration, U.S. Embassy Officer Consultations and Market Briefing. Evening: Networking Reception.
March 28, 2022 | Guatemala City. Morning: Registration and Trade Americas—Business Opportunities in Central America Conference. Afternoon: U.S. Embassy Officer Consultations and Workshops. Evening: Networking Reception.

Optional

March 29-April 1, 2022 | Travel and Business-to-Business Meetings in (choice of up to two markets): Option (A) Costa Rica. Option (B) Guatemala. Option (C) El Salvador. Option (D) Belize Option (E) Honduras. Option (F) Panama.
April 2, 2022 | Travel Day. Return to the U.S.

Participation Requirements

All parties interested in participating in the U.S. Department of Commerce Trade Mission to Central America must complete and submit an application package for consideration by the Department of Commerce. All applicants will be evaluated on their ability to meet certain conditions and best satisfy the selection criteria as outlined below.

A minimum of 20 and a maximum of 40 firms and/or trade associations will be selected to participate in the mission on a first-come first-serve basis. During the registration process, applicants will be able to select the countries from which they would like to receive a brief market assessment. Once they receive their brief market assessment report, they will be able to select up to two markets in which they would like to travel for their business-to-business meetings.

All selected participants will attend the conference in Guatemala and will have business-to-business meetings in up to two markets in the region.

The number of firms that may be selected for each country are as follows: 10 companies for Costa Rica, 10 companies for Guatemala, 10 companies for El Salvador, 5 companies for Belize, 10 companies for Honduras, and 10 companies for Panama.

The Trade Mission is open to U.S. firms already doing business in the region who are seeking to expand their market share and to those U.S. firms new to the region.

Fees and Expenses

After a firm or trade association has been selected to participate on the mission, a payment to the Department of Commerce in the form of a participation fee is required. Up to two markets can be selected for business-to-business meetings.

The fees are as follow:

If only one market is selected for business-to-business meetings, the participation fee will be $2,500 for a small or medium-sized enterprises (SME) [1] and $4,000 for large firms.

If two markets are selected for business-to-business meetings, the participation fee will be $3,500 for a small or medium-sized enterprises (SME) [1] and $5,000 for large firms.

The mission participation fee includes the Trade Americas—Business Opportunities in Central America Conference registration fee of $500 per participant from each firm.

There will be a $300 fee for each additional firm representative (large firm or SME) that wishes to participate in business-to-business meetings in any of the markets selected.

Timeframe for Recruitment and Application

Mission recruitment will be conducted in an open and public manner, including publication in the Federal Register, posting on the Commerce Department trade mission calendar on www.trade.gov, the Trade Americas web page at https://www.trade.gov/trade-americas-events, and other internet websites, press releases to the general and trade media, direct mail and broadcast fax, notices by industry trade associations and other multiplier groups and announcements at industry meetings, symposia, conferences, and trade shows.

Recruitment for the mission will begin immediately and conclude no later than Friday, January 28, 2022. The U.S. Department of Commerce will review applications and make selection decisions on a rolling basis until the maximum of 40 participants are selected. After Friday, January 28, 2022, companies will be considered only if space and scheduling constraints permit.

Contacts

U.S. Trade Americas Team Contact Information

Delia Valdivia, Sr. International Trade Specialist, U.S. Commercial Service—Los Angeles (West), CA, delia.valdivia@trade.gov, Tel: 310-235-7203

Diego Gattesco, Director, U.S. Commercial Service—Wheeling, WV, Diego.Gattesco@trade.gov, Tel: 304-243-5493

Central America Region Contact Information

John Howell, Senior Commercial Officer, U.S. Commercial Service—Guatemala, John.Howell@trade.gov, Tel: +502 2326 4227

Minority-Business Focused Trade Mission (MBTM) to Italy, Spain, and Portugal

Dates: May 15-20, 2022

Mission Description

The United States Department of Commerce, International Trade Administration (ITA), is organizing an executive-led Minority-Business Focused Trade Mission (MBTM) to Southwestern Europe: Italy, Spain, and Portugal from Sunday, May 15, 2022 to Saturday, May 21, 2022.

The recruitment for the MBTM will be a targeted focus on minority businesses. However, recruitment and consideration will be given to all export-ready companies that meet the established criteria for participation in the mission. Trade mission activities will be designed to target the export assistance needs of minority businesses. For purposes of the trade mission, a “minority business” is one that falls within the Minority Business Development Agency's definition of Minority Business Enterprises: Organizations that are owned or controlled by the following persons or groups of persons are the organizations that are considered MBEs: African-American, Hispanic-American, American Asian and Pacific Islander, Native American (including Alaska Natives, Alaska Native Corporations and Tribal entities), Asian Indian American, and Hasidic Jewish American. See 15 CFR 1400.1, 1400.2 and Executive Order 11625 (1969). This mission is in full alignment with Executive Order 13985 on Advancing Racial Equity and Support for Underserved Communities Through the Federal Government (January 25, 2021), the goals of which include advancing racial equity and provide support for minority business enterprises. This mission is also in full alignment with the President's 2021 Trade Policy Agenda's statement on Advancing Racial Equity and Supporting Underserved Communities, which notes, “The trade agenda will support domestic initiatives that eliminate social and economic structural barriers to equality and economic opportunity.”

The focus of the MBTM is on the information and communication technology (ICT) sector and subsectors of cybersecurity, smart city infrastructure and technology solutions, artificial intelligence markets and cloud computing, and energy, environmental technology, and safety and security technology applications.

The delegation will be comprised of representatives with decision-making authority from U.S. companies, U.S. trade associations and national minority chambers of commerce representing businesses in the cited sectors, with an emphasis on recruiting and vetting minority businesses as defined by MBDA. This mission is aligned with a key goal of the Biden-Harris Administration to build back better with equity.

The mission will make three stops: Milan, Italy, Madrid, Spain, and Lisbon, Portugal. The purpose of the planned executive-led mission is to provide opportunities for U.S. companies, to access the Southwestern European regional market and increase U.S. exports to the European Union (EU) region by connecting U.S. firms and trade associations to pre-screened business prospects.

Proposed Timetable

* Note: The final schedule and potential site visits will depend on the availability of host government and business officials, specific goals of mission participants, and ground transportation.

Sunday, May 15, 2022 | • Trade Mission Participants Arrive in Milan, Italy and Check in their Hotel and for those that arrive on time attend a Hosted Welcome Reception.
Monday, May 16 | • Morning Mission Briefing on Doing Business in Italy, B2B meetings, Networking Lunch with Government or Industry Speaker and Evening Networking Reception hosted by Consul General.
Tuesday, May 17 | • Checkout of Hotel, Morning B2B meetings, Networking Lunch, Cultural Tour and Transfer to Airport for Travel to Madrid, Spain, Arrive in Spain and Check into Hotel, Dinner (no host).
Wednesday, May 18 | • Morning Briefing on Doing Business in Spain, B2B meetings, Networking Lunch, followed by B2B Afternoon Meetings and Networking Reception.
Thursday, May 19 | • Checkout of Hotel, Travel from Spain to Lisbon Portugal, Check in Hotel, Open, and Networking Reception.
Friday, May 20 | • B2B Meetings, Briefing on Doing Business in Portugal, Networking Lunch and B2B/B2G Meetings, Informal Reception, Mission is completed.
Saturday, May 21 | • Checkout Hotel, Transfer to Airport, Mission Participants Leave Portugal and Travel Home or to Spin-off. Mission is completed.

Participation Requirements

All parties interested in participating in the trade mission must complete and submit an application package for consideration by the DOC. All applicants will be evaluated on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. The participation fee for the MBTM will be $5,500 for small or medium-sized enterprises (SME); ¹ and $8,100 for large firms or trade associations. The fee for each additional firm representative (large firm or SME/trade organization) is $1000, with a limit of 2 additional representatives for each participating firm. Expenses for travel, lodging, meals, and incidentals will be the responsibility of each mission participant. Interpreter and driver services can be arranged for additional cost. Delegation members will be able to take advantage of U.S. Embassy rates for hotel rooms.

¹ For purposes of assessing participation fees, an applicant is a small- or medium-sized enterprise (SME) if it qualifies under the Small Business Administration's (SBA) size standards (https://www.sba.gov/document/support-table-size-standards), which vary by North American Industry Classification System (NAICS) Code. The SBA Size Standards Tool [https://www.sba.gov/size-standards/] can help you determine the qualifications that apply to your company.

We will also try to reduce costs for meals through the in-kind offers of sponsors. Sponsor recruitment success is highly dependent on the types of companies participating. We will work to recruit global and local sponsors for the trade mission.

Timeline for Recruitment and Applications

Mission recruitment will be conducted in an open and public manner, including publication in the Federal Register, posting on the Commerce Department trade mission calendar (https://www.trade.gov/trade-missions) and other internet websites, press releases to general and trade media, direct mail, notices by industry trade associations and other multiplier groups, and publicity at industry meetings, symposia, conferences, and trade shows. Recruitment for the mission will begin immediately and conclude no later than March 04, 2022. The U.S. Department of Commerce will review applications and inform applicants of selection decisions on a staggered basis. The Department of Commerce will evaluate applications and inform applicants of selection decisions three times during the recruitment period. All applications received subsequent to an evaluation date will be considered at the next evaluation. Deadlines for each round of evaluation are as follows:

• First Evaluation: January 28, 2022.

• Second Evaluation: February 18, 2022.

• Final Evaluation: March 4, 2022.

Applications received after March 04, 2022, will be considered only if space and scheduling constraints permit.

Contacts

Project Lead

• Scott Pozil, Regional Senior Commercial Officer, France, +33 625278431 Scott.Pozil@trade.gov, Overall Lead.

• Tanya Cole, Principal Commercial Officer, Milan, Italy, +39 340 495 3498 Tanya.Cole@Trade.gov.

• Linda Caruso, Deputy Commercial Officer, Spain, +34 670 020 110 Linda.Caruso@Trade.gov.

• Rafael Patino, Senior Commercial Officer, Portugal, +35 91 931 9781 Rafael.Patino@Trade.gov.

• Fernando Jimenez, Senior International Trade Specialist, USEAC, Phoenix, AZ, +1-480 737 1128, Domestic Point of Contact.

Aerospace Mission to India

Dates: June 21-24, 2022

Mission Description

The United States Department of Commerce, International Trade Administration (ITA), is organizing an Aerospace Trade Mission to India on June 21-24, 2022.

The purpose of the mission is to introduce U.S. companies to India's aerospace ecosystem and assist delegate companies with finding business partners and exporting their products and services to the region. The mission will target approximately fifteen U.S. companies and trade association representatives with members that provide products and services related to airport infrastructure, ICT/security systems, aerospace equipment, avionics, Maintenance, Repair, and Overhaul (MRO), training, unmanned aerial vehicle (UAV) technologies, and possibly space technologies. It is possible to increase this number to as high as 25 if we limit the number of Gold Keys and one-on-one matchmaking services to 10 of the delegates. This is necessary since the mission is constrained to one and a half days per mission stop, so this is already between 30 and 50 B2Bs per stop.

Mission delegates will have access to business development opportunities across India. Participating firms will gain market insight, make industry contacts, solidify business strategies, and advance specific projects, with the goal of increasing U.S. exports of products and services in the aerospace sector. The subsectors will depend on the nature of the market, potential demand, prospective government procurements, and other factors closer to the start of recruitment.

The mission will include customized one-on-one business appointments with pre-screened potential buyers, agents, distributors, and joint venture partners. It will also include meetings with central, state, and local government officials and industry leaders, as well as networking events. The mission will include stops in New Delhi and Mumbai, with optional stops in Hyderabad and Bengaluru.

Proposed Timetable

* Note: The final schedule and potential site visits will depend on the availability of host government and business officials, specific goals of mission participants, and ground transportation.

Monday, June 20, 2022 | • Trade Mission Participants Arrive in New Delhi, India.
Tuesday, June 21, 2022 | • Plenary Session—U.S. Embassy officials welcome delegation.
| • Market Briefing: The Aerospace Sector in India—Opportunities and Challenges.
| • B2B and B2G Meetings for Mission Delegates in Delhi.
| • Reception Hosted by USIBC/USISPF/AmCham/Other (TBC).
Wednesday, June 22, 2022 | • B2B and B2G Meetings for Mission Delegates in Delhi.
| • Flight to Mumbai.
| • Networking Reception Hosted by Local Chamber (TBC).
Thursday, June 23, 2022 | • B2B and B2G Meetings for Mission Delegates in Mumbai.
| • Departure for Optional Spin-Offs.
Friday, June 24, 2022 | • B2B and B2G Meetings in Spin-Off Locations (Bengaluru/Hyderabad).
| • Departure for the United States.

Participation Requirements

All parties interested in participating in the trade mission must complete and submit an application package for consideration by the Department of Commerce. All applicants will be evaluated on their ability to meet certain conditions and best satisfy the selection criteria as outlined below. The mission will target a delegation of 15 firms, with a minimum of 10 to make the mission viable.

Fees and Expenses

After a firm or trade association has been selected to participate on the mission, a payment to the Department of Commerce in the form of a participation fee is required. The participation fee for the Aerospace Mission to India will be $2,800 for small or medium-sized enterprises (SME); and $5,500 or large firms or trade associations. The fee for each additional firm representative (large firm or SME/trade organization) is $1,000. Expenses for travel, lodging, meals, and incidentals will be the responsibility of each mission participant. Interpreter and driver services can be arranged for additional cost. Delegation members will be able to take advantage of U.S. Embassy rates for hotel rooms.

If and when an applicant is selected to participate on a particular mission, a payment to the Department of Commerce in the amount of the designated participation fee below is required. Upon notification of acceptance to participate, those selected have 5 business days to submit payment or the acceptance may be revoked.

Timeline for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than May 6, 2022. The U.S. Department of Commerce will review applications and inform applicants of selection decisions on a rolling basis. Applications received after May 6, 2022 will be considered only if space and scheduling constraints permit.

Contacts

1. Geoffrey Parish, Principal Commercial Officer, North India, U.S. Commercial Service, New Delhi, India, Tel: +91-11-2347 2000, Email: geoffrey.parish@trade.gov

2. Raghavan Srinivasan, Commercial Officer, U.S. Commercial Service, New Delhi, India, Tel: +91-11-2347 2000, Email: raghavan srinivasan@trade.gov

3. Nisha Wadhawan, Commercial Specialist, U.S. Commercial Service, New Delhi, India, Tel: +91-11-2347 2000, Email: nisha.wadhawan@trade.gov

4. Shamli Menon, Commercial Specialist, U.S. Commercial Service, Mumbai, India

5. Theodate Immanuel, Commercial Specialist, U.S. Commercial Service, Hyderabad, India

6. Manjushree Phookan, Commercial Specialist, U.S. Commercial Service, Bengaluru, India

7. Amy Magat, Sr., International Trade Specialist, U.S. Commercial Service, Downtown Los Angeles, Tel: +1 (213) 276-2990, Email: amy.magat@trade.gov

8. Oscar Magaña, International Trade Specialist, U.S. Commercial Service, San Antonio, TX, Tel: +1 (210) 419-3043, Email: oscar.magana@trade.gov

9. Meredith Boyle, International Trade Specialist (Aerospace & Defense), Office of Transportation and Machinery, Tel: +202-839-2347, Email: meredith.boyle@trade.gov

Dated: January 4, 2022.
Renee Diggs,
International Trade Specialist, ITA Events Management Task Force.

[FR Doc. 2022-00220 Filed 1-12-22; 8:45 am]

BILLING CODE 3510-DR-P